OFFICE OF PERSONNEL MANAGEMENT

Civilian Acquisition Workforce Personnel Demonstration Project; Department of Defense

AGENCY: U.S. Office of Personnel Management (OPM).

ACTION: Notice of amendments to the project plan for the Department of Defense (DoD) Civilian Acquisition Workforce Personnel Demonstration Project (AcqDemo).

SUMMARY: The DoD, with the approval of OPM, received authority to conduct a personnel demonstration project within DoD's civilian acquisition workforce and among those supporting personnel assigned to work directly with it. This notice announces the repeal and replacement of AcqDemo's original legal authorization and modifies the project plan to include new provisions; updates the project plan to address changes resulting from new General Schedule regulations and operational experience; announces guidelines for a formal process for interested DoD civilian acquisition organizations to use to request approval to participate in AcqDemo; and provides notice of expansion of coverage to new or realigned organizations.

DATES: The amendments will become effective as of March 31, 2015.

FOR FURTHER INFORMATION CONTACT: (1) DoD: Darryl R. Burgan, Civilian Acquisition Workforce Personnel Demonstration Project Program Office, 9820 Belvoir Road, Ft. Belvoir, VA 22060, (703) 805-5050; (2) OPM: Zelma Moore, U.S. Office of Personnel Management, 1900 E Street NW., Room 7456, Washington, DC 20415, (202) 606-1157.

SUPPLEMENTARY INFORMATION:

A. Background

The AcqDemo Project was established under the authority of the Secretary of Defense, with the approval of OPM. Subject to the authority, direction, and control of the Secretary, the Under Secretary of Defense for Acquisition, Technology, and Logistics (USD(AT&L)) carries out the powers, functions, and duties of the Secretary concerning the DoD acquisition workforce. As stated in the most recent legislative authorization, the purpose of the demonstration project is “to determine the feasibility or desirability of one or more proposals for improving the personnel management policies or procedures that apply with respect to the acquisition workforce of the [DoD] and supporting personnel assigned to work directly with the acquisition workforce.”

This demonstration project was originally authorized under section 4308 of the National Defense Authorization Act (NDAA) for Fiscal Year (FY) 1996 (Pub. L. 104-106, 110 Stat. 669; 10 United States Code Annotated (U.S.C.A.) 1701 note), as amended by section 845 of NDAA for FY 1998 (Pub. L. 105-85, 111 Stat.1845); section 813 of NDAA for FY 2003 (Pub. L. 107-314, 116 Stat. 2609); and section 1112 of NDAA for FY 2004 (Pub. L. 108-136, 117 Stat. 1634). Section 1113 of NDAA for FY 2010 (Pub. L. 111-84, 123 Stat. 2190) repealed the National Security Personnel System and directed conversion of all NSPS employees to their previous pay system by January 1, 2012. All NSPS employees formerly in AcqDemo were transitioned back to AcqDemo during the month of May 2011. On January 7, 2011, the original demonstration project authority was repealed and codified at section 1762 of title 10 United States Code (U.S.C.) pursuant to section 872 of the Ike Skelton NDAA for FY 2011 (Pub. L. 111-383, 124 Stat. 4300, 4302).

OPM approved and published the final project plan for the AcqDemo on January 8, 1999, in 64 FR 1426-1492. Since that time, four amendments have been approved and published, and one notice of intent to amend published by OPM:

(1) 66 FR 28006-28007 (May 21, 2001): This amendment was published to (1) correct discrepancies in the list of occupational series included in the project and (2) authorize managers to offer a buy-in to Federal employees entering the project after initial implementation.

(2) 67 FR 20192-20193 (April 24, 2002): This amendment was published to (1) make employees in the top broadband level of their career path eligible to receive a “very high” overall contribution score and (2) reduce the minimum rating period under the Contribution-based Compensation and Appraisal System (CCAS) to 90 calendar days.

(3) 67 FR 44250-44256 (July 1, 2002): This amendment (1) contained a list of all organizations that are eligible to participate in the project and (2) made the resulting adjustments to the table that describes the project's workforce demographics and union representation.

(4) 67 FR 63948-63949 (October 16, 2002): This notice of the intent to amend was published to propose a change in the method for determining and translating retention service credit. The proposal was overcome by the advent of the National Security Personnel System (NSPS), which was projected to replace the AcqDemo.

(5) 71 FR 58638-58639 (October 4, 2006): This amendment was published to facilitate the transition of AcqDemo employees to NSPS by authorizing an out-of-cycle Contribution-based Compensation and Appraisal System payout and amending conversion-out procedures.

With the enactment of section 872 of the Ike Skelton NDAA for FY 2011 (Pub. L. 111-383), Congress extended the authority for AcqDemo until September 30, 2017, and raised the total number of persons who may participate in the project from 95,000 to 120,000. Since the enactment, a number of acquisition workforce organizations recently indicated a strong interest in joining AcqDemo and have received DoD (USD(AT&L) and the Under Secretary of Defense (Personnel and Readiness) (USD(P&R)) and OPM approval to participate in the demonstration project.

B. Overview

AcqDemo involves streamlined hiring processes, broad banding, simplified classification, a contribution-based compensation and appraisal system, revised reduction-in-force procedures, academic degree and certification training, and sabbaticals.

C. Purpose of This Notice

The purpose of this notice is fivefold:

1. Announce that the original authority for the DoD Civilian Acquisition Workforce Personnel Demonstration Project provided by section 4308 of NDAA for FY 1996 (Pub. L. 104-106, 110 Stat. 669; 10 U.S.C.A. 1701 note), as amended, was repealed and codified at section 1762 of title 10 U.S.C. pursuant to section 872 of the Ike Skelton NDAA for FY 2011 (Pub. L. 111-383, 124 Stat. 4300, 4302).

2. Make modifications to 64 FR 1426-1492; 66 FR 28006-28007; 67 FR 20192-20193; 67 FR 44250-44256; 67 FR 63948-63949; and 71 FR 58638-58639 as appropriate to delete the repealed authority, insert the new updated authority, and include the new provisions authorized by section 872 of the Ike Skelton NDAA for FY 2011, including the associated changes necessitated by these provisions. The new provisions extend the authority termination date for the AcqDemo project to September 30, 2017; increase the total number of employees who may participate in the demonstration project up to 120,000; add workforce, organization and team participation eligibility criteria; add a provision for continuing the participation of organizations and teams whose subsequent reorganization causes changes in their demographics which could result in loss of eligibility to participate; and adds a requirement for two project assessments—one to be completed no later than September 30, 2012, which was forwarded to Congress in November 2012, and the other to be completed no later than September 30, 2016.

3. Improve process efficiency in refreshing the demonstration project plan to address required immediate changes resulting from new General Schedule (GS) regulations and actual demonstration project operational experience. These current changes include: Adding newly established GS occupational series, GS-0017, Explosive Safety Series; GS-0089, Emergency Management Series; GS-901, General Legal and Kindred Administration Series; GS-1603, Equipment, Facilities, and Services Assistance Series; GS-2299 Information Technology Management Student Trainee Series; and GS-0306, Public Information Management Series; replacing inactivated series GS-0334, Computer Specialist Series, with its replacement series GS-2210, Information Technology (IT) Management Series; and providing AcqDemo the capability to add other occupational series and revise or delete current series as a result of fluctuations in mission requirements or future DoD or OPM modifications to occupational series with appropriate notification to USD(P&R) and OPM for approval. Up to 20 positions may be reclassified to the Explosive Safety Series; approximately 800 positions are classified to the Information Technology Series; at least 5 positions each are classified to the General Legal and Kindred Administration Series, the Equipment, Facilities, and Services Assistance Series, and the Information Technology Management Student Trainee Series; and there is no impact on positions at this time with the addition of the Emergency Management Series and the Public Information Management Series.

4. Provide a formal process for DoD organizations interested in joining AcqDemo to request approval to participate in the demonstration project.

5. Announce the expansion of the AcqDemo to new or realigned DoD Acquisition organizations.

D. Notification Responsibilities and Collective Bargaining Requirements

The DoD AcqDemo Program Office will post this amendment on the Program Office's Web site at http://AcqDemo.dau.mil and request that components, DoD agencies, DoD field activities, and other organizations and teams, once approved for participation, notify employees, appropriate union officials, and other stakeholders of their communication vehicles, e.g., Web site, letters to employees and union officials, consultation/negotiation with union officials, town halls, etc., as well as the DoD Program Office Web site and information contained therein. These amendments will be made and implemented in accordance with bargaining requirements contained in the project plan published in 64 FR 1426, as amended, that employees, within a unit to which a labor organization is accorded exclusive recognition under Chapter 71 of title 5, United States Code (U.S.C.), shall not be included as part of the demonstration project unless the exclusive representative and the agency have entered into a written agreement covering participation in and implementation of the project.

U.S. Office of Personnel Management.
Katherine Archuleta,
Director.

Pursuant to 5 CFR 470.315, OPM approves the following modification to the AcqDemo project plan.

Specific Textual Changes to the AcqDemo Project Plan:

A. In the notice published on January 8, 1999, 64 FR 1426-1492:

1. On page 1426, in the first column, in the second paragraph under the SUMMARY section, in the first through sixth lines, “Section 4308 of the National Defense Authorization Act for Fiscal Year 1996 (Pub. L. 104-106; 10 U.S.C.A. § 1701), as amended by section 845 of the National Defense Authorization Act for Fiscal Year 1998 (Pub. L. 105-85),” should read “Section 872 of the Ike Skelton National Defense Authorization Act (NDAA) for Fiscal Year (FY) 2011 (Pub. L. 111-383, 124 Stat. 4300, 4302)”.

2. On page 1426, in the first column, in the second paragraph under the SUMMARY section, in the last line, “95,000” should read “120,000”.

3. On page 1426, in the second column, in the first full paragraph, in the first through sixth lines, “Section 4308 of the National Defense Authorization Act for Fiscal Year 1996 (Pub. L. 104-106; 10 U.S.C.A. § 1701), as amended by section 845 of the National Defense Authorization Act for Fiscal Year 1998 (Pub. L. 105-85),” should read “Section 872 of the Ike Skelton NDAA for FY 2011 (Pub. L. 111-383, 124 Stat. 4300, 4302)”.

4. On page 1439, in Table 2, in the “Business Management & Technical Management Professional” section, insert GS occupational series GS-0017, Explosive Safety Series; GS-0089, Emergency Management Series; and GS-0306, Public Information Management Series in their proper place in accordance with the numerical sequence shown in the “Business Management & Technical Management Professional” section.

5. On page 1440, in Table 2, in the “Business Management & Technical Management Professional” section, delete the inactivated GS-0334, Computer Specialist Series.

6. On page 1441, in Table 2, in the “Business Management & Technical Management Professional” section, insert GS occupational series GS-0901, General Legal and Kindred Administration Series in its proper place in accordance with the numerical sequence shown in the “Business Management & Technical Management Professional” section.

7. On page 1444, in Table 2, in the “Business Management & Technical Management Professional” section, insert in a new line below series number 2199 at the end of Table 2, the GS-2210, Information Technology Management Series (Alternative A) and annotate for a footnote.

8. On page 1444, in Table 2, in the “Business Management & Technical Management Professional” section, insert GS occupational series GS-2299, Information Technology Management Student Trainee in its proper place in accordance with the numerical sequence shown in the “Business Management & Technical Management Professional” section.

9. On page 1444, in Table 2, under the bottom of the table, add the following footnote associated with GS-2210, Information Technology Management Series (Alternative A): “In April 2009, the Office of Personnel Management issued two qualification standards for Information Technology (IT) Management Series, 2210. Alternative A, which is applicable to AcqDemo participants, covers GS-5 through GS-15 (or equivalent) and must be used for GS-5 and GS-7 positions requiring IT-related education and/or IT-related experience. Alternative B covers only positions at the GS-5 or GS-7 (or equivalent) that do not require IT-related education or IT-related experience upon entry.”

10. On page 1446, in Table 2, in the “Administrative Support” section, insert GS occupational series GS-1603, Equipment, Facilities, and Services Assistance Series in its proper place in accordance with the numerical sequence shown in the “Administrative Support” section.

11. On page 1451, bottom of middle column, delete text in paragraph C.1 and replace with the following: “The AcqDemo Project will continue to use the occupational series designators consistent with those authorized by DoD and or OPM to identify positions. The current AcqDemo occupational series will be placed into appropriate career paths as shown in Table 2. Other occupational series may be added or current series revised or deleted as a result of fluctuations in mission requirements or future DoD or OPM modifications to occupational series with appropriate notice to USD(P&R) and OPM for approval. Titling practices consistent with those established by DoD or OPM classification standards will be used to determine the official title of positions.”

12. On page 1484, in the third column, immediately preceding the VI. Project Duration heading, insert the following new Section D (which will follow a Section C added to Section V by 71 FR 58638, October 4, 2006):

“D. Effect of Reorganizations

“Section 872 of the Ike Skelton NDAA for FY 2011 codified at 10 U.S.C. 1762(d) provides that an AcqDemo organization that loses, due to reorganization, the one-third, two-thirds personnel demographic eligibility required for continued inclusion in AcqDemo may continue to participate in the AcqDemo project. All requirements set forth in 5 U.S.C. 4703 continue to apply to the new organization or team. In addition, the following circumstances may be considered in determining whether the new organization should participate in AcqDemo. Continued participation may be contingent upon such items as the amount of reduction in the number and/or kinds of positions to be counted for the one-third, two-thirds demographic eligibility requirement; degree of personnel involvement in an organization with an acquisition mission to acquire necessary supplies, equipment, and services to support the warfighter and DoD support staff; scope of direct support to an acquisition workforce organization or closely related functional area; and or the primary personnel system utilized by the gaining organization.

“AcqDemo organizations affected by reorganization, realignment, consolidation, or other organizational changes that may impact the one-third, two-thirds personnel demographic eligibility requirement are to contact the AcqDemo Program Director expeditiously to discuss the workforce changes in relation to continued AcqDemo participation. The AcqDemo Program Director will decide the additional information that needs to be included in the organization's request for continued participation. The organization will submit a request for continued participation in accordance with the AcqDemo Program Office's internal implementing guidance. The AcqDemo Program Office will review the rationale for and the data supplied in support of continued participation; conduct periodic audits of the participating organizations' populations as appropriate; and request additional details or formal documentation as needed. Based on an assessment of the information provided, the AcqDemo Program Director will approve or disapprove the continued participation including any pertinent comments.”

13. On page 1485, in the first column, immediately preceding the VII. Evaluation Plan heading, insert the following new paragraph:

“The demonstration project has been extended by statute twice as indicated below:

“(a) Section 813 of the Bob Stump NDAA for FY 2003 (Pub. L. 107-314, 116 Stat. 2609) extended the authority to conduct the AcqDemo until September 30, 2012 and

“(b) Section 872 of the Ike Skelton NDAA for FY 2011 (Pub. L. 111-383, 124 Stat. 4300, 4302), which extended the authority to conduct the AcqDemo Program until September 30, 2017.”

14. On page 1485, in the third column, immediately following the text in VII. Evaluation Plan, insert the following new paragraph:

“With the authority extension granted by section 872, the Secretary of Defense was required to designate an independent organization to conduct two assessments of the acquisition workforce demonstration project. Each such assessment must include the following:

“(a) A description of the workforce included in the project.

“(b) An explanation of the flexibilities used in the project to appoint individuals to the acquisition workforce and whether those appointments are based on competitive procedures and recognize veterans' preferences.

“(c) An explanation of the flexibilities used in the project to develop a performance appraisal system that recognizes excellence in performance and offers opportunities for improvement.

“(d) The steps taken to ensure that such system is fair and transparent for all employees in the project.

“(e) How the project allows the organization to better meet mission needs.

“(f) An analysis of how the flexibilities in subparagraphs (b) and (c) are used, and what barriers have been encountered that inhibit their use.

“(g) Whether there is a process for—

“(i) ensuring ongoing performance feedback and dialogue among supervisors, managers, and employees throughout the performance appraisal period; and

“(ii) setting timetables for performance appraisals.

“(h) The project's impact on career progression.

“(i) The project's appropriateness or inappropriateness in light of the complexities of the workforce affected.

“(j) The project's sufficiency in terms of providing protections for diversity in promotion and retention of personnel.

“(k) The adequacy of the training, policy guidelines, and other preparations afforded in connection with using the project.

“(l) Whether there is a process for ensuring employee involvement in the development and improvement of the project.

“Pursuant to section 872 of the Ike Skelton NDAA for FY 2011 (see 10 U.S.C. 1762(e)), the first assessment was forwarded to Congress in November 2012. The second and final assessment must be completed no later than September 30, 2016. The Secretary shall submit to the covered congressional committees a copy of each assessment within 30 days after receipt by the Secretary of the assessment.”

B. In the notice published on May 21, 2001, 66 FR 28006-28007:

On page 28007, in the first column, under SUMMARY section, first sentence: Delete the following citation: “Section 4308 of the National Defense Authorization Act for Fiscal Year 1996 (Pub. L. 104-106; 10 U.S.C.A. 1701 note), as amended by section 845 of the National Defense Authorization Act for Fiscal Year 1998 (Pub. L. 105-85)”. Replace with: “Section 872 of the Ike Skelton National Defense Authorization Act for Fiscal Year 2011 (Pub. L. 111-383, 124 Stat. 4300, 4302)”.

C. In the notice published on April 24, 2002, 67 FR 20192-20193:

On page 20192, in the second and third columns, under the SUMMARY section, beginning in the last line of the second column, “(See Section 4308 of the National Defense Authorization Act for Fiscal Year 1996 (Pub. L. 104-106; 10 U.S.C.A. 1701 note), as amended by section 845 of the National Defense Authorization Act for Fiscal Year 1998 (Pub. L. 105-85))” should read “(Section 872 of the Ike Skelton National Defense Authorization Act for Fiscal Year 2011 (Pub. L. 111-383, 124 Stat. 4300, 4302)),”

D. In the notice published on July 1, 2002, 67 FR 44250-44256:

1. On page 44250, in the first column, under the SUMMARY section, the second sentence “(See Section 4308 of the National Defense Authorization Act for Fiscal Year 1996 (Pub. L. 104-106; 10 U.S.C.A. § 1701 note), as amended by section 845 of the National Defense Authorization Act for Fiscal Year 1998 (Pub. L. 105-85))” should read “(See Section 872 of the Ike Skelton National Defense Authorization Act for Fiscal Year 2011 (Pub. L. 111-383, 124 Stat. 4300, 4302)).”

2. On page 44251, in the third column, under III. Personnel System Changes, delete paragraph 1 before Table 1, covering changes to Section II.E. and replace with the following:

“E. Scope of the AcqDemo Project “1. Eligible Organizations. The DoD has numerous civilian acquisition organizations and teams found in the Departments of the Army, the Navy (including the Marine Corps), and the Air Force; the Joint Services; and several Defense agencies and field activities in the 4th Estate. These organizations and teams are located not only across the United States but also in a number of foreign countries. Various elements of these organizations may be included in AcqDemo if they request to participate in AcqDemo, meet the eligibility requirements, and are approved by both the DoD and OPM. Table 1 provides a list of those organizations that were determined to be eligible to participate as of July 1, 2002. Table 1A contains a list of new or realigned organizations whose eligibility to participate in AcqDemo was approved by the DoD in calendar year 2014 and by OPM in calendar year 2015.”

3. On page 44251, middle of page, top of Table 1, delete Table 1 title and replace with: “Table 1. Eligible AcqDemo Organizations as of July 1, 2002.”

4. On page 44255, after Table 1, Note 5, and before paragraph 2, insert the following:

“2. AcqDemo Expansion.

“a. Request to Participate in AcqDemo. As a demonstration project, AcqDemo is subject to audit, evaluation and reporting requirements as Department leaders consider expanding participation in AcqDemo. Therefore, to assist in the effective management of the project, it is necessary to establish and utilize a formal application and approval process for organizations and teams desiring to participate in AcqDemo. The broad parameters of this process are described below with finite content requirements to be issued by the DoD AcqDemo Program Office using various internal DoD issuances such as AcqDemo Memorandum and AcqDemo Operating Procedures. As experience is gained using this process, analysis is conducted, and conclusions reached, minor modifications may be made by the DoD AcqDemo Program Office.

“b. Calls for Additional Participation. The AcqDemo Program Office may establish a regular schedule or periodically announce opportunities for interested acquisition organizations to apply for approval to participate in AcqDemo. Out-of cycle participation requests will be reviewed on a case-by-case basis. During the demonstration project authority period, limited expansion of the project may be determined valuable by the USD(AT&L). In these cases, plans for such expansion will be coordinated with the USD(P&R)and OPM prior to execution.

“c. Eligibility Requirements. Organizational and team participation in AcqDemo is voluntary. For an interested organization or team to be approved to participate, the following conditions must be met:

“(1) At least one-third of the workforce selected to participate in the demonstration project consists of members of the acquisition workforce (civilian employees occupying positions coded as meeting the requirements of the Defense Acquisition Workforce Improvement Act (DAWIA) of 1990);

“(2) At least two-thirds of the workforce participating in the demonstration project consists of members of the acquisition workforce and supporting personnel assigned to work directly with the acquisition workforce;

“(3) The civilian acquisition personnel demonstration project commenced before October 1, 2007;

“(4) Positions are classified to an approved occupational series; and

“(5) Requests from organizations or teams must be coordinated through the chain of command to include the USD(P&R) and for approval by USD(AT&L), or designee, and OPM for participation in the AcqDemo Project. Once the USD(AT&L) approves participation, the approval package will be provided to the USD(P&R) or designee for signature and forwarded to OPM for final approval and publication in accordance with 5 U.S.C. 4703 and title 5 Code of Federal Regulations (CFR) Part 470.“d. Application Process. The organization or team seeking approval to participate in AcqDemo would follow the process steps listed below:

“(1) Initiation of the process should only occur after the leadership of the candidate population has:

“(a) Reviewed the AcqDemo design with AcqDemo Program Office officials;

“(b) Informally coordinated concurrence of their participation within their component leadership for any enterprise planning impacts; and

“(c) Assessed the acceptance level of their workforce with participation, views of stakeholders such as local bargaining union leadership (if applicable), and consideration of any other local climate and/or operational issues that would impact effective implementation of the project.

“(2) Gather and provide the required information described below:

“(a) Complete DoD component, DoD agency, or DoD field activity address.

“(b) Identification of the acquisition-related mission of the population requesting participation including a brief discussion of the major functions performed.

“(c) Requesting organizations are encouraged to provide any applicable local workforce challenges being encountered that are not covered in 64 FR 1426 and indicate how it is anticipated that AcqDemo could help address such challenges.

“(d) Workforce Demographic Data.

“(e) Identification of occupational series that need to be added.

“(f) A statement of confirmation that applicable Within-Grade Increase (WGI) buy-in conversion costs have been estimated and do not present adverse financial impact on payroll budgeting and execution.

“(g) Communication Plan, as available.

“(h) Desired conversion date for candidate population.

“(3) Requesting organization will route the application package through their command channels to the Assistant Secretary for Manpower and Reserve Affairs (M&RA) or equivalent, or as delegated by the Component for the military services, or the appropriate equivalent authority for Joint Services and DoD agencies and field activities under the 4th Estate for appropriate review and endorsement to the DoD AcqDemo Program Director. The AcqDemo Program Office staff will review the application package for compliance with required information and eligibility requirements and facilitate coordination of eligibility with USD (P&R) and participation approval with USD (AT&L) and OPM. The AcqDemo Program Director will then ensure the approval decisions are implemented, with quarterly updates provided to USD (P&R) and USD (AT&L).

“(4) Following receipt of appropriate coordinations and approvals for the requesting organization to participate in AcqDemo, the AcqDemo Program Office staff will initiate appropriate notification to the component Assistant Secretary (M&RA); 4th Estate Director, Administration and Management, or designees; USD (P&R), and the Office of Personnel Management. In addition, any organization approved to participate will notify affected employees, labor organizations, and other appropriate stakeholders.

“e. New or Realigned AcqDemo Eligible Organizations. As a result of the success of the AcqDemo classification, contribution appraisal, and compensation strategies and the desire of the USD (AT&L) to increase participation to more evenly balance the workforce among components and agencies for evaluation, the organizations listed in Table 1A either applied in calendar year 2014 and have been approved to participate in the AcqDemo, or are currently in Table 1 but require an update to their listed organizational alignment.

BILLING CODE 6325-39-P

5. On page 44255, bottom of page, first column of narrative, delete paragraph 2, covering Section II.F. in its entirety including Table 3 and replace with the following:

“3. Workforce Coverage.

“a. Current Participating Employees. “As of January 22, 2015, AcqDemo contained twenty-eight organizations and teams with a total of 15,514 civilian employees covered by the project. Table 2 provides a demographic breakout of this actual population by participating Components or Service including number of employees by career path, broadband level, and bargaining unit representation. Of the 15,514 employees, 9.3% or 1,449 are represented by labor unions. The American Federation of Government Employees (AFGE) represents 65.1% of the bargaining unit employees and the National Federation of Federal Employees (NFFE) represents 31.5% of bargaining unit employees. The International Federation of Professional and Technical Engineers (IFPTE), National Association of Government Employees (NAGE), and Laborers' International Union of North America (LIUNA) represent the remainder (3.4%) of AcqDemo bargaining unit employees.”

“b. Workforce Coverage. Section 872 of the Ike Skelton NDAA for FY 2011 increased the number of employees who may participate in AcqDemo from 95,000 to 120,000 at any one time. The scope of AcqDemo workforce coverage gives primary consideration to the number and diversity of occupations within (1) the acquisition workforce and (2) the supporting personnel assigned to work directly with the acquisition workforce. This coverage may encompass acquisition-related duties and positions in program management; systems planning, research, development, engineering, and testing; procurement, including contracting; industrial property management; logistics; quality control and assurance; manufacturing and production; business, cost estimating, financial management, and auditing; education, training, and career development; construction; and joint development and production with other Government agencies and foreign governments. The occupational series for this collection of duties and associated positions included in AcqDemo are listed in Table 3.

“The AcqDemo includes primarily former General Schedule employees in positions with pay plan codes GS and GM. Employees and positions in other personnel systems and pay plans may be converted into AcqDemo as a result of reorganizations, restructuring, realignment, consolidation, Base Realignment and Closure decisions, legislative dictates, or other organizational changes. Students and recent graduates hired through the Pathways Programs may be included as determined by their organization or component. Excluded from coverage of this project are Senior Executive Service (SES), Senior Level (SL), Scientific and Technical (ST), Federal Wage System (FWS), and Administratively Determined (AD) positions. Also excluded from the project are (1) positions allocated to a Physicians and Dentist Pay Plan, either GP or GR; (2) positions covered by the Defense Civilian Intelligence Personnel System (DCIPS) (10 U.S.C. Chapter 83); (3) positions covered by or to be included in one of the Science and Technology Reinvention Laboratory (STRL) personnel demonstration projects (Section 342(b) of the NDAA for FY 1995, Pub. L. 103-337 (10 U.S.C. 2358), as amended); and (4) positions in the Space and Naval Warfare Systems Center, San Diego, CA, Alternative Personnel System (Federal Register, Volume 45, Number 77, Friday April 18, 1980).

E. In the notice published on October 16, 2002, 67 FR 63948—63949:

On page 63948, in the first column, under the SUMMARY section, the second sentence “(See Section 4308 of the National Defense Authorization Act for Fiscal Year 1996 (Pub. L. 104-106; 10 U.S.C.A. 1701 note)), as amended by section 845 of the National Defense Authorization Act for Fiscal Year 1998 (Pub. L. 105-85))” should read “(See Section 872 of the Ike Skelton National Defense Authorization Act for Fiscal Year 2011 (Pub. L. 111-383, 124 Stat. 4300, 4302))”.

F. In the notice published on October 4, 2006, 71 FR 58638-58639:

On page 58638, in the third column, beginning in the third line from the top, “[See Section 4308 of the National Defense Authorization Act for Fiscal Year 1996 (Pub. L. 104-106; 10 U.S.C.A. section 1701 note), as amended by section 845 of the National Defense Authorization Act for Fiscal Year 1998 (Pub. L. 105-85)]” should read “[See Section 872 of the Ike Skelton National Defense Authorization Act for Fiscal Year 2011 (Pub. L. 111-383, 124 Stat. 4300, 4302)]”.

G. In the notice published on January 8, 1999, 64 FR 1439, change the number of Table 2 to Table 3.

[FR Doc. 2015-07314 Filed 3-30-15; 8:45 am]

BILLING CODE 6325-39-C